DEPARTMENT OF LABOR

Proposed Extension of Information Collection; Registration for Public Data Service

AGENCY: Office of Data Governance, Office of the Assistant Secretary for Policy, Labor.

ACTION: Notice of information collection; request for comment.

SUMMARY: The Department of Labor (DOL), as part of its continuing effort to reduce paperwork and respondent burden, conducts a pre-clearance request for comment to provide the public and Federal agencies with an opportunity to comment on proposed collections of information in accordance with the Paperwork Reduction Act of 1995. This request helps to ensure that: requested data can be provided in the desired format; reporting burden (time and financial resources) is minimized; collection instruments are clearly understood; and the impact of collection requirements on respondents can be properly assessed. Currently, the Office of the Assistant Secretary for Policy (OASP) is soliciting comments on an information collection of user registrations to access a public Application Programming Interface providing machine readable subsets of public data generated by DOL programs and activities.

DATES: All comments must be received on or before August 21, 2023.

ADDRESSES: Electronic submission: You may submit comments and attachments electronically at http://www.regulations.gov. Follow the online instructions for submitting comments. A copy of this ICR with applicable supporting documentation; including a description of the likely respondents, proposed frequency of response, and estimated total burden may be obtained free by contacting Scott Gibbons by email at gibbons.scott.m@dol.gov. Submit written comments about, or requests for a copy of, this ICR by mail or courier to the U.S. Department of Labor, Office of Data Governance, Office of the Assistant Secretary for Policy, Room S2312, 200 Constitution Avenue NW, Washington, DC 20210; by email: odg@dol.gov. All submissions received must include the agency name and Federal Register notice title.

FOR FURTHER INFORMATION CONTACT: Scott Gibbons, Chief Data Officer by telephone at 202-693-5075 (this is not a toll-free number), or by email at gibbons.scott.m@dol.gov.

SUPPLEMENTARY INFORMATION:

I. Background

DOL is developing a new public facing data service consistent with the requirements of title II of the Foundations for Evidence-Based Policymaking Act of 2018, the goals described in DOL's Enterprise Data Strategy, and feedback from a prior public request for information on how DOL can optimally structure its public data offerings available through Docket No. DOL-2021-0005 at www.regulations.gov.

To best ensure that this service will optimally meet current, evolving, and long range needs among public, private, and Federal data users, specifically with respect to the kinds of data offered, the formats of machine readable data made accessible, the software and services that can connect to the Application programming Interface (API), and the kinds of documentation provided, DOL anticipates collecting a limited number of characteristic data elements from prospective users. These data elements will guide DOL efforts to provide questions about familiarity with APIs usage, preferred software, questions about topics of analysis to ensure that our creation of tutorials, code examples, documentation, and data schema best reflect the collective needs of our users. The information will also be used to identify patterns and trends among users to inform proper administration of the service. DOL will not disclose any of the information being collected to the public.

DOL experience shows that the number of applicants to our public data services will vary considerably but will almost certainly exceed 10 or more persons (ref: 5 CFR 1320.3(c)(4)(ii)), so DOL seeks to obtain and maintain PRA clearance to conduct this information collection.

II. Desired Focus of Comments

OASP is soliciting comments concerning an information collection of user registrations to access a public Application Programming Interface providing machine readable subsets of public data generated by DOL programs and activities. OASP is particularly interested in comments that:

• Evaluate whether the collection of information is necessary for the proper performance of the functions of the Agency, including whether the information has practical utility;

• Evaluate the accuracy of OASP's estimate of the burden related to the information collection, including the validity of the methodology and assumptions used in the estimate;

• Suggest methods to enhance the quality, utility, and clarity of the information to be collected; and

• Minimize the burden of the information collection on those who are to respond, including through the use of appropriate automated, electronic, mechanical, or other technological collection techniques or other forms of information technology, e.g., permitting electronic submission of responses.

Background documents related to this information collection request are available at https://regulations.gov and at DOL-OASP, located at Office of the Assistant Secretary for Policy, Room S2312, 200 Constitution Avenue NW, Washington, DC 20210. Questions about the information collection requirements may be directed to the person listed in the FOR FURTHER INFORMATION CONTACT section of this notice.

III. Current Actions

This information collection request concerns user registrations to access a public Application Programming Interface providing machine readable subsets of public data generated by DOL programs and activities. OASP has estimated the potential impact of this collection data with respect to the number of respondents, responses, burden hours, and burden costs supporting this information collection request from the previous information collection request.

Type of Review: New collection.

Agency: DOL-OASP.

Title of Collection: Registration for Public API.

OMB Number: 1290-0NEW.

Affected Public: Individuals or households, and not-for-profit institutions.

Estimated Annual Number of Respondents: 200.

Estimated Annual Number of Responses: 200.

Estimated Annual Burden Hours: 30 hours.

Estimated Average Hourly Wage of Respondents: $49.76.

Estimated Total Annual Burden Costs: $1,492.80.

Annual Respondent or Recordkeeper Cost: $0.

Comments submitted in response to this notice will be summarized in the request for Office of Management and Budget approval of the proposed information collection request; they will become a matter of public record and will be available at https://www.reginfo.gov.

(Authority: 44 U.S.C. 3507(a)(1)(D).)

Scott Gibbons,
Chief Data Officer.

[FR Doc. 2023-12992 Filed 6-16-23; 8:45 am]

BILLING CODE 4510-HX-P